Title 3—

The President

Proclamation 8278 of August 22, 2008

Women’s Equality Day, 2008

By the President of the United States of America

A Proclamation

With vision and determination, American women have helped build our great Nation. On Women's Equality Day, we remember the dedication of women who overcame many obstacles in order to secure the right to vote.

The struggle for women's rights is a story of strong women willing to take the lead and pave the way toward equal voting rights for all American citizens. In 1848, a group of determined women came together in Seneca Falls, New York, to proclaim that “all men and women are created equal,” and demand suffrage. On August 26, 1920, their voices were finally heard, and the 19th Amendment to the Constitution guaranteed women the right to vote.

As we look back on the journey to women gaining suffrage, we remember the sacrifices of people like Susan B. Anthony and Elizabeth Cady Stanton. More than 160 years after the Seneca Falls Convention, we celebrate the spirit, leadership, and hard work of those pioneering women. We also recognize the women who continue in this tradition by acting as role models in their communities, helping raise the next generation of Americans, leading in their professions, and serving in the Armed Forces protecting our country. These women are continuing on the path set by those who came before them, so that all Americans can realize the great promise of our Nation.

NOW, THEREFORE, I, GEORGE W. BUSH, President of the United States of America, by virtue of the authority vested in me by the Constitution and laws of the United States, do hereby proclaim August 26, 2008, as Women's Equality Day. I call upon the people of the United States to celebrate the achievements of women and observe this day with appropriate programs and activities.

IN WITNESS WHEREOF, I have hereunto set my hand this twenty-second day of August, in the year of our Lord two thousand eight, and of the Independence of the United States of America the two hundred and thirty-third.

[FR Doc. E8-20079

Filed 8-26-08; 9:33 am]

Billing code 3195-01-P